DEPARTMENT OF DEFENSE

Department of the Air Force

[Docket ID USAF-2011-0013]

Privacy Act of 1974; System of Records

AGENCY: Department of the Air Force.

ACTION: Notice to Alter a System of Records.

SUMMARY: The Department of the Air Force proposes to alter a system of records in its inventory of record systems subject to the Privacy Act of 1974 (5 U.S.C. 552a), as amended.

DATES: This proposed action will be effective without further notice on May 12, 2011 unless comments are received which result in a contrary determination.

ADDRESSES: You may submit comments, identified by dock number and/RIN number and title, by any of the following methods:

• Federal Rulemaking Portal: http://www.regulations.gov. Follow the instructions for submitting comments.

• Mail: Federal Docket Management System Office, 1160 Defense Pentagon, OSD Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Mr. Charles J. Shedrick, 703-696-6488, or Department of the Air Force Privacy Office, Air Force Privacy Act Office, Office of Warfighting Integration and Chief Information officer, Attn: SAF/CIO A6, 1800 Air Force Pentagon, Washington, DC 20330-1800.

SUPPLEMENTARY INFORMATION: The Department of the Air Force's notices for systems of records subject to the Privacy Act of 1974 (5 U.S.C. 552a), as amended, have been published in the Federal Register and are available from the FOR FURTHER INFORMATION CONTACT address above.

The proposed systems reports, as required by 5 U.S.C. 552a(r) of the Privacy Act, were submitted on April 5, 2011 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: April 5, 2011.
Morgan F. Park,
Alternate OSD Federal Register Liaison Officer, Department of Defense.

F036 AFPC J

System name:

Promotion Documents/Records Tracking (PRODART) and Airman Promotion Historical Records (APHR) System (June 11, 1997, 62 FR 31793).

Changes:

* * * * *

System name:

Delete entry and replace with “Promotion Documents and Records Tracking System (PRODARTS).”

System Location:

Delete entry and replace with “Board Support Branch, Selection Board Secretariat, Headquarters Air Force Personnel Center, 1960 1st Street West, Randolph Air Force Base, TX 78150-0000.”

Categories of individuals covered by the system:

Delete entry and replace with “Active duty officers in grades from Lieutenant (O1) through Lieutenant Colonel (O5) and active duty enlisted personnel in grades Master Sergeant (E7) through Senior Master Sergeant (E8).”

Categories of records in the system:

Delete entry and replace with “The PRODARTS is made up of six files: active duty enlisted file, active duty officer file, document/record required, document/record receipt file, selection board eligibility file, and derogatory information file. These files contain Enlisted/Officer Performance Reports, training reports, decorations, promotion/retention recommendation forms, individual's name, Social Security Number (SSN), grade data, service data, and selection board eligibility data.”

Authority for maintenance of the system:

Delete entry and replace with “10 U.S.C. 8013, Secretary of the Air Force; Air Force Instruction 36-2406, Officer and Enlisted Evaluation System; Air Force Instruction 36-2502, Airman Promotion/Demotion Programs and E.O. 9397 (SSN), as amended.”

Purpose:

Delete entry and replace with “The PRODARTS system is used to identify documents (Enlisted/Officer Performance Reports, training teports, decorations, promotion/retention recommendation forms) missing from the United States Air Force Selection Records Group and to account for documents received.”

Routine uses of records maintained in the system, including categories of users and the purposes of such uses:

Delete and replace with “In addition to those disclosures generally permitted under 5 U.S.C. 552a(b) of the Privacy Act of 1974, these records contained therein may be specifically be disclosed outside the DoD as a routine use pursuant to 5 U.S.C. 552a(b) as follows:

The DoD ‘Blanket Routine Uses’ published at the beginning of the Air Force compilation of systems of records notices apply to this system.”

Storage:

Delete entry and replace with “Electronic storage media.”

Retrievability:

Delete entry and replace with “Retrieved by name and/or Social Security Number (SSN).”

Safeguards:

Delete entry and replace with “Records are accessed by custodian of the record system and by person(s) responsible for servicing the record system in performance of their official duties that are properly screened and cleared for need-to-know. PRODARTS is protected by user identification and password or smart card technology protocols.”

Retention and disposal:

Delete entry and replace with “PRODARTS records are maintained until the member is selected for promotion to Chief Master Sergeant (E9) or Colonel (O6) or when the member is no longer on active duty. Electronic files are destroyed automatically upon obtaining E9 or O6.”

System manager(s) and address:

Delete entry and replace with “Chief, Board Support Branch, Selection Board Secretariat, Headquarters Air Force Personnel Center, 1960 1st Street West, Randolph Air Force Base, Texas 78150-0000.”

Notification procedures:

Delete entry and replace with “Individuals seeking to determine whether information about themselves is contained in this system should address written inquiries to or visit the Chief, Board Support Branch, Selection Board Secretariat, Headquarters Air Force Personnel Center, 1960 1st Street West, Randolph Air Force Base, Texas 78150-0000.

For verification purposes, individual should provide their full name, Social Security Number (SSN), any details which may assist in locating records, and their signature.

In addition, the requester must provide a notarized statement or an unsworn declaration made in accordance with 28 U.S.C. 1746, in the following format:

If executed outside the United States:

‘I declare (or certify, verify, or state) under penalty of perjury under the laws of the United State of America that the foregoing is true and correct. Executed on (date). (Signature)’.

If executed within the United States, its territories, possessions, or commonwealths: ‘I declare (or certify, verify, or state) under penalty of perjury that the foregoing is true and correct. Executed on (date). (Signature)’.”

Record access procedures:

Delete entry and replace with “Individuals seeking access to information about themselves contained in this system of records should address written inquiries to or visit the Chief, Board Support Branch, Selection Board Secretariat, Headquarters Air Force Personnel Center, 1960 1st Street West, Randolph Air Force Base, Texas 78150-0000.

For verification purposes, individual should provide their full name, Social Security Number (SSN), any details which may assist in locating records, and their signature.

In addition, the requester must provide a notarized statement or an unsworn declaration made in accordance with 28 U.S.C. 1746, in the following format:

If executed outside the United States:

‘I declare (or certify, verify, or state) under penalty of perjury under the laws of the United State of America that the foregoing is true and correct. Executed on (date). (Signature)’.

If executed within the United States, its territories, possessions, or commonwealths: ‘I declare (or certify, verify, or state) under penalty of perjury that the foregoing is true and correct. Executed on (date). (Signature)’.”

Contesting record procedures:

Delete entry and replace with “The Air Force rules for accessing records, and for contesting contents and appealing initial agency determinations are published in Air Force Instruction 33-332, Privacy Act Program; CFR part 806b; or may be obtained from the system manager.”

Record source categories:

Delete entry and replace with “PRODARTS data is extracted from the Military Personnel Data System (MilPDS).”

* * * * *

F036 AFPC J

System name:

Promotion Documents and Records Tracking System (PRODARTS).

System Location:

Board Support Branch, Selection Board Secretariat, Headquarters Air Force Personnel Center, 1960 1st Street West, Randolph Air Force Base, TX 78150-0000.

Categories of individuals covered by the system:

Active duty officers in grades from Lieutenant (O1) through Lieutenant Colonel (O5) and active duty enlisted personnel in grades Master Sergeant (E7) through Senior Master Sergeant (E8).

Categories of records in the system:

The PRODARTS is made up of six files: active duty enlisted file, active duty officer file, document/record required, document/record receipt file, selection board eligibility file, and derogatory information file. These files contained Enlisted/Officer Performance Reports, training reports, decorations, promotion/retention recommendation forms, individual's name, Social Security Number (SSN), grade data, service data, and selection board eligibility data.

Authority for maintenance of the system:

10 U.S.C. 8013, Secretary of the Air Force; Air Force Instruction 36-2406, Officer and Enlisted Evaluation System; Air Force Manual 36-2622, Base Level Military Personnel System; Air Force Instruction 36-2502, Airman Promotion/Demotion Programs and E.O. 9397 (SSN), as amended.

Purpose:

Records technicians use the PRODARTS system to identify documents (Enlisted/Officer Performance Reports, training reports, decorations, promotion/retention recommendation forms) missing from the United States Air Force Selection Records Group and to account for documents received.

Routine uses of records maintained in the system, including categories of users and the purposes of such uses:

In addition to those disclosures generally permitted under 5 U.S.C. 552a(b) of the Privacy Act of 1974, these records contained therein may be specifically be disclosed outside the DoD as a routine use pursuant to 5 U.S.C. 552a(b) as follows:

The DoD ‘Blanket Routine Uses’ published at the beginning of the Air Force compilation of systems of records notices apply to this system.

Storage:

Electronic storage media.

Retrievability:

Retrieved by name and/or Social Security Number (SSN).

Safeguards:

Records are accessed by custodian of the record system and by person(s) responsible for servicing the record system in performance of their official duties that are properly screened and cleared for need-to-know. PRODARTS is protected by user identification and password or smart card technology protocols.

Retention and disposal:

PRODARTS records are maintained until the member is selected for promotion to Chief Master Sergeant (E9) or Colonel (O6) or when the member is no longer on active duty. Electronic files are destroyed automatically upon obtaining E9 or O6.

System manager(s) and address:

Chief, Board Support Branch, Selection Board Secretariat, Headquarters Air Force Personnel Center, 1960 1st Street West, Randolph Air Force Base, Texas 78150-0000.

Notification procedures:

Individuals seeking to determine whether information about themselves is contained in this system should address written inquiries to or visit the Chief, Board Support Branch, Selection Board Secretariat, Headquarters Air Force Personnel Center, 1960 1st Street West, Randolph Air Force Base, Texas 78150-0000.

For verification purposes, individual should provide their full name, Social Security Number (SSN), any details which may assist in locating records, and their signature.

In addition, the requester must provide a notarized statement or an unsworn declaration made in accordance with 28 U.S.C. 1746, in the following format:

If executed outside the United States:

‘I declare (or certify, verify, or state) under penalty of perjury under the laws of the United State of America that the foregoing is true and correct. Executed on (date). (Signature)’.

If executed within the United States, its territories, possessions, or commonwealths: ‘I declare (or certify, verify, or state) under penalty of perjury that the foregoing is true and correct. Executed on (date). (Signature)’.

Record access procedures:

Individuals seeking access to information about themselves contained in this system of records should address written inquiries to or visit the Chief, Board Support Branch, Selection Board Secretariat, Headquarters Air Force Personnel Center, 1960 1st Street West, Randolph Air Force Base, Texas 78150-0000.

For verification purposes, individual should provide their full name, Social Security Number (SSN), any details which may assist in locating records, and their signature.

In addition, the requester must provide a notarized statement or an unsworn declaration made in accordance with 28 U.S.C. 1746, in the following format:

If executed outside the United States:

‘I declare (or certify, verify, or state) under penalty of perjury under the laws of the United State of America that the foregoing is true and correct. Executed on (date). (Signature)’.

If executed within the United States, its territories, possessions, or commonwealths: ‘I declare (or certify, verify, or state) under penalty of perjury that the foregoing is true and correct. Executed on (date). (Signature)’.

Contesting record procedures:

The Air Force rules for accessing records, and for contesting contents and appealing initial agency determinations are published in Air Force Instruction 33-332, Privacy Act Program; CFR part 806b; or may be obtained from the system manager.

Record source categories:

PRODARTS data is extracted from the Military Personnel Data System (MilPDS).

Exemptions claimed for the system:

None.

[FR Doc. 2011-8641 Filed 4-11-11; 8:45 am]

BILLING CODE 5001-09-P